DEPARTMENT OF DEFENSE

Department of the Army

Intent To Grant an Exclusive or Partially Exclusive License to Fiber Glass Industries, Incorporated

AGENCY: Department of the Army, DoD.

ACTION: Notice of intent.

SUMMARY: In compliance with 37 CFR Part 404 et seq., the Department of the Army hereby gives notice of its intent to grant to Fiber Glass Industries, Incorporated, a corporation having its principle place of business at 69 Edson Street, Amsterdam, New York 12010, an exclusive or partially exclusive license relative to an ARL patent application (U.S. Patent Application #10/318667; “Methods for Producing Nano-Textured Solid Surfaces”, Jensen; et al.).

DATES: File written objections by April 5, 2004.

FOR FURTHER INFORMATION CONTACT: Michael D. Rausa, U.S. Army Research Laboratory, Office of Research and Technology Applications, ATTN: AMSRL-DP-T/Bldg. 459, Aberdeen Proving Ground, MD 21005-5425, Telephone: (410) 278-5028.

SUPPLEMENTARY INFORMATION: Anyone wishing to object to the granting of this license has 60 days from the date of this notice to file written objections along with supporting evidence, if any.

Luz D. Ortiz,
Army Federal Register Liaison Officer.

[FR Doc. 04-2497 Filed 2-4-04; 8:45 am]

BILLING CODE 3710-08-M